DEPARTMENT OF COMMERCE

National Oceanic and Atmospheric Administration

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Groundfish Committee to consider actions affecting New England fisheries in the exclusive economic zone (EEZ). Recommendations from this group will be brought to the full Council for formal consideration and action, if appropriate.

DATES: This meeting will be held on Thursday, June 4, 2015 at 9:30 a.m.

ADDRESSES:

Meeting address: The meeting will be held at the Hilton Garden Inn, 1 Thurber Street, Warwick, RI 02886; phone: (401) 734-9600; fax: (401) 734-9700.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The items of discussion on the agenda are:

The Committee plans to discuss, Framework Adjustment 55/Groundfish Specifications, this action would set specifications for all stocks in the Northeast Multispecies (Groundfish) Fishery Management Plan (FMP) for Fishing Year 2016 through Fishing Year 2018. They will also review the At-Sea Monitoring Framework Adjustment. They will review work of the Groundfish Plan Development Team and develop potential modifications to at-sea monitoring requirements in the groundfish sector program. They will provide a brief update on Amendment 18 progress, (fleet diversity and accumulation limits). Additionally, the committee will receive an update on the Monkfish Framework 9/Northeast Multispecies Framework 54. This joint action would modify Northeast Multispecies regulations to allow the declaration of a Northeast Multispecies Day-At-Sea while at sea and the reduction in minimum standup gillnet mesh size in order to target dogfish. They will also discuss other business as necessary.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

The meeting is physically accessible to people with disabilities. Requests for sign language interpretation or other auxiliary aids should be directed to Thomas A. Nies, Executive Director, at (978) 465-0492, at least 5 days prior to the meeting date.

Authority: 16 U.S.C. 1801 et seq.

Dated: May 13, 2015.
Tracey L. Thompson,
Acting Deputy Director, Office of Sustainable Fisheries, National Marine Fisheries Service.

[FR Doc. 2015-11950 Filed 5-15-15; 8:45 am]

BILLING CODE 3510-22-P